DEPARTMENT OF HOMELAND SECURITY

Coast Guard

[USCG-2008-0178]

Collection of Information Under Review by Office of Management and Budget: OMB Control Numbers: 1625-0032, 1625-0037, 1625-0041 and 1625-0042

AGENCY: Coast Guard, DHS.

ACTION: Thirty-day notice requesting comments.

SUMMARY: In compliance with the Paperwork Reduction Act of 1995, this request for comments announces that the U.S. Coast Guard is forwarding four Information Collection Requests (ICRs), abstracted below, to the Office of Information and Regulatory Affairs (OIRA) of the Office of Management and Budget (OMB) requesting an extension of their approval for the following collections of information: (1) 1625-0032, Vessel Inspection Related Forms and Reporting Requirements Under Title 46 U.S. Code; (2) 1625-0037, Certificates of Compliance, Boiler/Pressure Vessel Repairs, Cargo Gear Records, and Shipping Papers; (3) 1625-0041, Various International Agreement Pollution Prevention Certificates and Documents, and Equivalency Certificates; and (4) 1625-0042, Requirements for Lightering of Oil and Hazardous Material Cargoes. Our ICRs describe the information we seek to collect from the public. Review and comments by OIRA ensure we only impose paperwork burdens commensurate with our performance of duties.

DATES: Please submit comments on or before August 18, 2008.

ADDRESSES: You may submit comments identified by Coast Guard docket number [USCG-2008-0178] to the Docket Management Facility (DMF) at the U.S. Department of Transportation (DOT) or to OIRA. To avoid duplication, please submit your comments by only one of the following means:

(1) Electronic submission. (a) To Coast Guard docket at http://www.regulation.gov. (b) To OIRA by e-mail to: oira_submission@omb.eop.gov.

(2) Mail or Hand delivery. (a) DMF (M-30), DOT, West Building Ground Floor, Room W12-140, 1200 New Jersey Avenue, SE., Washington, DC 20590-0001. Hand deliver between the hours of 9 a.m. and 5 p.m., Monday through Friday, except Federal holidays. The telephone number is 202-366-9329. (b) To OIRA, 725 17th Street, NW., Washington, DC 20503, to the attention of the Desk Officer for the Coast Guard.

(3) Fax. (a) To DMF, 202-493-2251. (b) To OIRA at 202-395-6566. To ensure your comments are received in time, mark the fax to the attention of the Desk Officer for the Coast Guard.

The DMF maintains the public docket for this notice. Comments and material received from the public, as well as documents mentioned in this notice as being available in the docket, will become part of this docket and will be available for inspection or copying at room W12-140 on the West Building Ground Floor, 1200 New Jersey Avenue, SE., Washington, DC, between 9 a.m. and 5 p.m., Monday through Friday, except Federal holidays. You may also find this docket on the Internet at http://www.regulations.gov.

Copies of the complete ICRs are available through this docket on the Internet at http://www.regulations.gov. Additionally, copies are available from Commandant (CG-611), U.S. Coast Guard Headquarters, (Attn: Mr. Arthur Requina), 2100 2nd Street, SW., Washington, DC 20593-0001. The telephone number is 202-475-3523.

FOR FURTHER INFORMATION CONTACT: Mr. Arthur Requina, Office of Information Management, telephone 202-475-3523 or fax 202-475-3929, for questions on these documents. Contact Ms. Renee V. Wright, Program Manager, Docket Operations, 202-366-9826, for questions on the docket.

SUPPLEMENTARY INFORMATION: The Coast Guard invites comments on whether this information collection request should be granted based on it being necessary for the proper performance of Departmental functions. In particular, the Coast Guard would appreciate comments addressing: (1) The practical utility of the collections; (2) the accuracy of the estimated burden of the collections; (3) ways to enhance the quality, utility, and clarity of information subject to the collections; and (4) ways to minimize the burden of collections on respondents, including the use of automated collection techniques or other forms of information technology.

Comments to Coast Guard or OIRA must contain the OMB Control Number of the ICR. Comments to Coast Guard must contain the docket number of this request, [USCG 2007-0178]. For your comments to OIRA to be considered, it is best if they are received on or before August 18, 2008.

Public participation and request for comments: We encourage you to respond to this request by submitting comments and related materials. We will post all comments received, without change, to http://www.regulations.gov. They will include any personal information you provide. We have an agreement with DOT to use their DMF. Please see the paragraph on DOT's “Privacy Act Policy” below.

Submitting comments: If you submit a comment, please include the docket number [USCG-2008-0178], indicate the specific section of the document to which each comment applies, providing a reason for each comment. We recommend you include your name, mailing address, an e-mail address, or other contact information in the body of your document so that we can contact you if we have questions regarding your submission. You may submit comments and material by electronic means, mail, fax, or delivery to the DMF at the address under ADDRESSES; but please submit them by only one means. If you submit them by mail or delivery, submit them in an unbound format, no larger than 8½ by 11 inches, suitable for copying and electronic filing. If you submit them by mail and would like to know that they reached the Facility, please enclose a stamped, self-addressed postcard or envelope. We will consider all comments and material received during the comment period. We may change the documents supporting this collection of information or even the underlying requirements in view of them. The Coast Guard and OIRA will consider all comments and material received during the comment period.

Viewing comments and documents: Go to http://www.regulations.gov to view documents mentioned in this notice as being available in the docket. Enter the docket number [USCG-2008-0178] in the Search box, and click, “Go>>.” You may also visit the DMF in room W12-140 on the West Building Ground Floor, 1200 New Jersey Avenue SE., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000 (65 FR 19477), or by visiting http://DocketsInfo.dot.gov.

Previous Request for Comments

This request provides a 30-day comment period required by OIRA. The Coast Guard has published the 60-day notice (73 FR 19082, April 8, 2008) required by 44 U.S.C. 3506(c)(2). That notice elicited no comments.

Information Collection Request

1. Title: Vessel Inspection Related Forms and Reporting Requirements Under Title 46 U.S. Code.

OMB Control Number: 1625-0032.

Type of Request: Extension of currently approved collection.

Affected Public: Owners, operators, agents, and masters of vessels.

Abstract: The Coast Guard's Commercial Vessel Safety Program regulations are found in 46 CFR, including parts 2, 26, 31, 71, 91, 107, 115, 126, 169, 176, and 189; as authorized in 46 U.S.C. A number of reporting and recordkeeping requirements are contained therein. This collection of information requires owners, operators, agents, or masters of certain inspected vessels to obtain and/or post various forms as part of the Coast Guard's Commercial Vessel Safety Program.

Burden Estimate: The estimated burden has increased from 1,471 hours to 1,686 hours a year.

2. Title: Certificates of Compliance, Boiler/Pressure Vessel Repairs, Cargo Gear Records, and Shipping Papers.

OMB Control Number: 1625-0037.

Type of Request: Extension of a currently approved collection.

Affected Public: Owners and operators of vessels.

Abstract: Sections 3301, 3305, 3306, 3702, 3703, 3711, and 3714 of 46 U.S.C. authorize the Coast Guard to establish marine safety regulations to protect life, property, and the environment. These regulations are prescribed in 46 CFR. This information is solely needed to enable the Coast Guard to fulfill its responsibilities for maritime safety under Title 46 of the U.S. Code. The affected public includes some owners or operators of large merchant vessels and all foreign-flag tankers calling at U.S. ports.

Burden Estimate: The estimated burden has increased from 13,577 hours to 17,274 hours a year. In the 60-day notice, the estimated burden was erroneously reported as 17,297 hours. The supporting materials in the docket also had this error, and those materials have been revised.

3. Title: Various International Agreement Pollution Prevention Certificates and Documents, and Equivalency Certificates.

OMB Control Number: 1625-0041.

Type of Request: Extension of currently approved collection.

Affected Public: Owners and operators of vessels.

Abstract: Required by the adoption of the International Convention for the Prevention of Pollution from Ships (MARPOL 73/78), these certificates and documents are evidence of compliance with this convention for U.S. vessels on international voyages. Without the proper certificates or documents, a U.S. vessel could be detained in a foreign port.

Burden Estimate: The estimated burden has decreased from 6,874 hours to 2,067 hours a year. In the supporting materials posted to the docket with the 60-day notice, the existing hour burden was erroneously reported as 6,780 hours. The supporting materials in the docket have been revised.

4. Title: Requirements for Lightering of Oil and Hazardous Material Cargoes.

OMB Control Number: 1625-0042.

Type of Request: Extension of currently approved collection.

Affected Public: Owners and operators of vessels.

Abstract: Section 3703 of 46 U.S.C. authorizes the Coast Guard to establish lightering regulations. Sections 156.200 to 156.330 of 33 CFR prescribe the regulations, including pre-arrival notice, reporting of incidents, and operating conditions. The information for this report allows the Coast Guard to provide timely response to an emergency and minimize the environmental damage from an oil or hazardous material spill. Further, it also allows the Coast Guard to control the location and procedures for lightering activities.

Burden Estimate: The estimated burden has decreased from 324 hours to 215 hours a year.

Authority: The Paperwork Reduction Act of 1995; 44 U.S.C. Chapter 35, as amended.

Dated: July 9, 2008.
D. T. Glenn,
Rear Admiral, U. S. Coast Guard, Assistant Commandant for Command, Control, Communications, Computers and Information Technology.

[FR Doc. E8-16393 Filed 7-17-08; 8:45 am]

BILLING CODE 4910-15-P